DEPARTMENT OF THE INTERIOR

National Park Service

Notice of Intent to Repatriate Cultural Items: American Museum of Natural History, New York, NY; Republication

Editorial Note: Federal Register Notice document 04-28004 was published originally in the Federal Register of Wednesday, December 22, 2004 at 69 FR 76778. The document published was a duplicate of document 04-28001. The corrected document is published in its entirety.

AGENCY: National Park Service, Interior.

ACTION: Notice.

Notice is here given in accordance with the Native American Graves Protection and Repatriation Act (NAGPRA), 25 U.S.C. 3005, of the intent to repatriate cultural items in the possession of the American Museum of Natural History, New York, NY, that meet the definition of “sacred objects” under 25 U.S.C. 3001.

This notice is published as part of the National Park Service's administrative responsibilities under NAGPRA, 25 U.S.C. 3003 (d)(3). The determinations in this notice are the sole responsibility of the museum, institution, or Federal agency that has control of these cultural items. The National Park Service is not responsible for the determinations in this notice.

The 9 cultural items are 3 inscribed birch bark rolls, 2 rattles, 1 beaded ceremonial bag, 1 fawn skin bag, 1 food fungus, and 1 black dye.

The Mide bark song roll is oblong with rounded ends and measures 45 x 8 x 0.5 cm. The Mide bark roll is rectangular, measuring 34 x 24 x 5 cm and is inscribed with the figure of a man. The medicine bark roll is rectangular and measures 36 x 26 x 2 cm. The birchbark rattle has a cylindrical head painted with a blue stripe that is attached to a wooden handle. The doctor's rattle consists of a circular wooden frame covered with hide. The ceremonial bag is a bandolier¯type bag beaded in a floral motif and has a fringed bottom. The base of the shoulder strap also contains the beaded image of a man and two horses. The fawn skin bag is used to hold wild rice. The fungus is a black food fungus. The black dye has been identified by a Bois Forte representative as vermilion.

In 1903, William Jones acquired the cultural items from the Bois Forte Indian Reservation in Minnesota during an American Museum of Natural History funded expedition. The Museum accessioned the cultural items into its collection the same year.

The cultural affiliation of the cultural items is Bois Forte (Nett Lake) Band of the Minnesota Chippewa Tribe as indicated by Museum records and by consultation evidence presented by the Bois Forte (Nett Lake) Band of the Minnesota Chippewa, Minnesota. Museum records indicate that the cultural items are Ojibway and that they were acquired from the Bois Forte Indian Reservation in Minnesota.

Officials of the American Museum of Natural History have determined that, pursuant to 25 U.S.C. 3001, (3)(C), the cultural items are specific ceremonial objects needed by traditional Native American religious leaders for the practice of traditional Native American religions by their present¯day adherents. Officials of the American Museum of Natural History also have determined that, pursuant to 25 U.S.C. 3001 (2), there is a relationship of shared group identity that can be reasonably traced between the sacred objects and the Bois Forte (Nett Lake) Band of the Minnesota Chippewa Tribe, Minnesota.

Representatives of any other Indian tribe that believes itself to be culturally affiliated with these sacred objects should contact Nell Murphy, Director of Cultural Resources, American Museum of Natural History, Central Park West at 79th Street, New York, NY 10024, telephone (212) 769¯5837, before January 21, 2005. Repatriation of the sacred objects to the Bois Forte (Nett Lake) Band of the Minnesota Chippewa Tribe, Minnesota may proceed after that date if no additional claimants come forward.

The American Museum of Natural History is responsible for notifying Bois Forte (Nett Lake) Band of the Minnesota Chippewa, Minnesota, and the Minnesota Chippewa Tribe, Minnesota that this notice has been published.

Dated: November 16, 2004.
Sherry Hutt,
Manager, National NAGPRA Program.

[FR Doc. R4-28004 Filed 1-6-05; 8:45 am]

BILLING CODE 1501-01-D